DEPARTMENT OF ENERGY

Federal Energy Regulatory Commission

[Docket No. AD13-4-000]

Notice of Availability of the Report: Recommended Parameters for Solid Flame Models for Land Based Liquefied Natural Gas Spills

The staff of the Federal Energy Regulatory Commission (FERC or Commission) has prepared a report, in the above-referenced docket, examining potential changes to LNGFIRE3, the solid flame model required by the U.S. Department of Transportation's regulations at Title 49, Code of Federal Regulations (CFR), Part 193 for predicting radiant heat from liquefied natural gas (LNG) pool fires on land.

The report investigates the effects of matching both individual modeling parameters/correlations to measured experimental data and overall radiant heat predictions to measured results from field experiments. The review specifically addresses experimental data from the Phoenix large scale LNG fire tests on water conducted by Sandia National Laboratories between 2008 and 2011 and from the Montoir large scale LNG fire test over land conducted by Gaz de France in 1989. FERC staff concludes that LNGFIRE3, as currently prescribed by 49 CFR part 193, is appropriate for modeling thermal radiation from LNG pool fires on land and is suitable for use in siting on-shore LNG facilities. The report is available for public viewing on the FERC's Web site (www.ferc.gov) using the eLibrary link.

Any person wishing to comment on the report may do so. The comment period is 30 days and ends on February 22, 2013. For your convenience, there are three methods you can use to file your comments with the Commission. In all instances, please reference the docket number (AD13-4-000) with your submission. The Commission encourages electronic filing of comments and has expert staff available to assist you at (202) 502-8258 or efiling@ferc.gov.

(1) You can file your comments electronically using the eFiling feature on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(2) You can file a paper copy of your comments by mailing them to the following address: Kimberly D. Bose, Secretary, Federal Energy Regulatory Commission, 888 First Street NE., Room 1A, Washington, DC 20426.

The study, as well as any comments received, will be considered by FERC staff during preparation of the environmental assessments or environmental impact statements produced for LNG project applications filed with the Commission.

Information about this document is available from the Commission's Office of External Affairs, at (866) 208-FERC, or on the FERC Web site (www.ferc.gov) using the eLibrary link. Click on the eLibrary link, click on “General Search,” and enter the docket number excluding the last three digits in the Docket Number field (i.e., AD13-4). Be sure you have selected an appropriate date range. For assistance, please contact FERC Online Support at FercOnlineSupport@ferc.gov or toll free at (866) 208-3676, or for TTY, contact (202) 502-8659.

In addition, the Commission offers a free service called eSubscription which allows you to keep track of all formal issuances and submittals in specific dockets. This can reduce the amount of time you spend researching proceedings by automatically providing you with notification of these filings, document summaries, and direct links to the documents. Go to www.ferc.gov/esubscribenow.htm.

Dated: January 23, 2013.
Kimberly D. Bose,
Secretary.

[FR Doc. 2013-01924 Filed 1-29-13; 8:45 am]

BILLING CODE 6717-01-P